DEPARTMENT OF DEFENSE

Department of the Army; Corps of Engineers

Chief of Engineers Environmental Advisory Board; Meeting

AGENCY: Department of the Army, U.S. Army Corps of Engineers, DoD.

ACTION: Notice of open meeting.

SUMMARY: In accordance with 10(a)(2) of the Federal Advisory Committee Act (Pub. L. 92-463), announcement is made of the forthcoming meeting. The meeting is open to the public.

Name of Committee: Chief of Engineers Environmental Advisory Board (EAB).

Date: April 11, 2002.

Location: Florence Room at the Four Points by Sheraton Hotel, 1 Plaza Square, Rock Island, IL.

Time: 8:00 AM to 3:30 PM. Central Daylight Savings Time.

FOR FURTHER INFORMATION CONTACT: Ms. Ellen Cummings, Headquarters, U.S. Army Corps of Engineers, Washington, DC 20314-1000; Ph: 202-761-4558.

SUPPLEMENTARY INFORMATION: The Board advises the Chief of Engineers on environmental policy, identification and resolution of environmental issues and missions, and addressing challenges, problems and opportunities in an environmentally sustainable manner. The theme of this meeting is environmental sustainability within the Corps of Engineers Military and Civil Works functions. It will include a discussion of the Corps of Engineers Operating Principles and draft guidance on the incorporation of sustainability into Corps projects, such as the current study of navigation on the Upper Mississippi River and Illinois Waterways System. Time will be provided for public comment. Each speaker will be limited to no more than three minutes in order to accommodate as many people as possible within the limited time available. However, this is not a public meeting on the Upper Mississippi River—Illinois Waterway System Navigation Study, per se. If you wish to receive electronic notice of future meetings you may subscribe to a list server at: http://www.usace.army.mil/inet/functions/cw/hot_topics/eab.htm.

Luz D. Ortiz,
Army Federal Register Liaison Officer.

[FR Doc. 02-7522 Filed 3-27-02; 8:45 am]

BILLING CODE 3710-92-M